DEPARTMENT OF THE INTERIOR

Bureau of Land Management

[PO #4820000251]

Public Land Order No. PLO 7954; Withdrawal of National Forest System Lands for the Schwartz and Leff Administrative Site; California

AGENCY: Bureau of Land Management, Interior.

ACTION: Public land order.

SUMMARY: This Public Land Order (PLO) withdraws 39.6 acres of National Forest System lands from location and entry under the United States mining laws, but not from leasing under the mineral or geothermal leasing laws or disposal under the Mineral Materials Act of 1947, for a period of 20 years, subject to valid existing rights, to protect the integrity of the historic and cultural resources located within the Schwartz and Leff Administrative Site along the North Fork of the Salmon River in Siskiyou County, California.

DATES: This PLO takes effect on December 30, 2024.

FOR FURTHER INFORMATION CONTACT: Heather Daniels, BLM California State Office, telephone: (916) 978-4674, email: hdaniels@blm.gov; or Zareen Ali, Forest Service Regional Office, telephone: (707) 562-8964 during regular business hours, 8:00 a.m. to 4:30 p.m. Monday through Friday, except holidays. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The United States Forest Service will manage the lands to protect the integrity of the historic and cultural resources located within the Schwarz and Leff Administrative Site along the North Fork of the Salmon River in the Klamath National Forest, Siskiyou County, California.

Order

By virtue of the authority vested in the Secretary of the Interior by Section 204 of the Federal Land Policy and Management Act of 1976, 43 U.S.C. 1714, it is ordered as follows:

1. Subject to valid existing rights, the following described National Forest System lands are hereby withdrawn from location and entry under the United States mining laws, but not from leasing under the mineral or geothermal leasing laws or disposal under the Mineral Materials Act of 1947, for the protection of the cultural and historic resources within the Schwartz and Leff Administrative Site in the Klamath National Forest, California.

National Forest System Lands

Klamath National Forest

Humboldt Meridian, California

T. 10 N., R. 8 E.,

M.S. 6686 EXCEPT that portion within Tract 44 of said T. 10 N., R. 8 E., Humboldt Meridian

The area described contains 39.60 acres in Siskiyou County.

2. The withdrawal made by this order does not alter the applicability of those laws governing the use of National Forest System lands under lease, license, or permit, or governing the disposal of the mineral or vegetative resources other than under the mining laws.

3. This withdrawal will expire 20 years from the effective date of this order, unless, as a result of a review conducted before the expiration date pursuant to Section 204(f) of the Federal Land Policy and Management Act of 1976, 43 U.S.C. 1714(f), the Secretary determines that the withdrawal shall be extended.

(Authority: 43 U.S.C. 1714)

Robert T. Anderson,
Solicitor.

[FR Doc. 2024-31211 Filed 12-27-24; 8:45 am]

BILLING CODE 3411-15-P